DEPARTMENT OF THE INTERIOR

Bureau of Indian Affairs

Indian Gaming

AGENCY: Bureau of Indian Affairs, Interior.

ACTION: Notice of Class III Gaming Amendment taking effect.

SUMMARY: Notice is given that the Amendment to the Tribal-State Compact between the St. Regis Mohawk Tribe and the State of New York is considered to have been approved and is in effect.

EFFECTIVE DATE: March 7, 2005.

FOR FURTHER INFORMATION CONTACT: George T. Skibine, Director, Office of Indian Gaming Management, Office of the Deputy Assistant Secretary—Policy and Economic Development, Washington, DC 20240, (202) 219-4066.

SUPPLEMENTARY INFORMATION: Under Section 11 (d)(7)(D) of the Indian Gaming Regulatory Act of 1988 (IGRA), Pub. L. 100-497, 25 U.S.C. 2710, the Secretary of the Interior must publish in the Federal Register notice of any Tribal-State compact that is approved, or considered to have been approved for the purpose of engaging in Class III gaming activities on Indian lands. The Acting Principal Deputy Assistant Secretary—Indian Affairs, Department of the Interior, through his delegated authority did not approve or disapprove this Amendment before the date that is 45 days after the date it was submitted. Therefore, pursuant to 25 U.S.C. 2710(d)(7)(C), this Amendment is considered to have been approved, but only to the extent it is consistent with IGRA. This Amendment authorizes the tribes to engage in certain Class III gaming activities, provides for certain geographical exclusivity, prohibits the Tribe from conducting video lottery terminals, and prohibits non-tribal operation of slot machines. It takes effect on the date the approval is published in the Federal Register.

Dated: February 10, 2005.
Michael D. Olsen,
Acting Principal Deputy Assistant Secretary—Indian Affairs.

[FR Doc. 05-4365 Filed 3-4-05; 8:45 am]

BILLING CODE 4310-4N-P